DEPARTMENT OF COMMERCE

National Oceanic and Atmospheric Administration

[I.D. 112301D]

Mid-Atlantic Fishery Management Council; Meetings

AGENCY: National Marine Fisheries Service (NMFS), National Oceanic and Atmospheric Administration (NOAA), Commerce.

ACTION: Notice of public meeting; including a notice of intent to prepare an Environmental Impact Statement (EIS), convene a scoping meeting, and request for public comments.

SUMMARY: The Mid-Atlantic Fishery Management Council (Council) and its Ecosystem Planning Committee, its Demersal Species Committee meeting as a Council Committee of the Whole with the Atlantic States Marine Fisheries Commission’s (Commission) Summer Flounder, Scup and Black Sea Bass Board, its Law Enforcement Committee, and Executive Committee will hold a public meeting.

DATES: The meetings will be held on Tuesday, December 11, 2001 to Thursday, December 13, 2001. On Tuesday, December 11, 2001, the Ecosystem Planning Committee will meet from 1-4 p.m. On Wednesday, December 12, 2001, the Council and Commission will meet from 8-5 p.m. On Thursday, December 13, 2001, the Law Enforcement Committee will meet from 7:30-8 a.m. The Executive Committee will meet from 8-9 a.m. The Council will meet from 9-5 p.m.

ADDRESSES: This meeting will be held at the Sheraton Society Hill, One Dock Street, Philadelphia, PA; telephone: 215-238-6000.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: Agenda items for the committees and Council meetings are: Identify Council/Commission priorities for 2003 quota set-aside species, refine criteria to be used in evaluating proposals received in response to 2003 Request for Research Proposals, recommend adjustments to weights to be applied to evaluation criteria, discuss need for and timing of pre-proposal process; review and discuss Monitoring Committee’s recommendations on summer flounder, scup, and black sea management measures, review and discuss Advisory Panels recommendations on summer flounder, scup, and black sea bass management measures, develop and approve management measures for 2002 summer flounder, scup, and black sea bass recreational fisheries; review the Council’s 2002 meeting calendar, i.e., changes to meeting locations and times; initiate Fisheries Achievement Award process for second half of 2001; the Council intends to prepare an EIS under the National Environmental Policy Act, to assess the potential effects on the human environment of its proposed action to initiate Amendment 9 to the Fishery Management Plan for Atlantic mackerel, squid, and butterfish fisheries under the Magnuson-Stevens Fishery Conservation and Management Act. The amendment currently would extend the moratorium on entry into the Illex fishery, allow for specification of management measures for multiple years for all four species in the management unit, and provide analyses of fishing gear impacts on essential fish habitat (EFH) for all four species; review proposed management changes previously mentioned in Amendment 9 to the Squid, Mackerel, and Butterfish FMP and fishing gear impacts on EFH, i.e., remedy EFH disapprovals identified in Squid, Mackerel, and Butterfish FMP Amendment 8; hear organizational and committee reports.

Although non-emergency issues not contained in this agenda may come before the Council and the Commission for discussion, these issues can not be the subject of formal Council action during this meeting. Council action will be restricted to those issues specifically listed in this notice and any issues arising after publication of this notice that require emergency action under section 305 (c) of the Magnuson-Stevens Act, provided the public has been notified of the Council’s intent to take final action to address the emergency.

Special Accommodations

This meeting is physically accessible to people with disabilities. Requests for sign language interpretation or other auxiliary aids should be directed to Joanna Davis at least 5 days prior to the meeting date.

Dated: November 26, 2001.
Richard W. Surdi,
Acting Director, Office of Sustainable Fisheries, National Marine Fisheries Service.

[FR Doc. 01-29642 Filed 11-28-01; 8:45 am]

BILLING CODE 3510-22-S